NUCLEAR REGULATORY COMMISSION

Sunshine Act Meeting

AGENCY HOLDING THE MEETING: Nuclear Regulatory Commission.

DATE: Weeks of February 5, 12, 19, 26, March 5, 2001.

PLACE: Commissioners' Conference Room, 11555 Rockville Pike, Rockville, Maryland.

STATUS: Public and Closed.

MATTERS TO BE CONSIDERED:

Week of February 5, 2001

Monday, February 5, 2001

1:55 p.m. Affirmation Session (Public Meeting) (If needed)

Week of February 12, 2001—Tentative

Wednesday, February 14, 2001

10:25 a.m. Affirmation Session (Public Meeting) (If needed)

Week of February 19, 2001—Tentative

Tuesday, February 20, 2001

10:25 a.m. Affirmation Session (Public Meeting) (If needed)

10:30 a.m. Briefing on Spent Fuel Pool Accident Risk at Decommissioning Plants and Rulemaking Initiatives (Public Meeting) (Contact: George Hubbard, 301-415-2870)

This meeting will be webcast live at the Web address— www.nrc.gov/live.html

Week of February 26, 2001—Tentative

Monday, February 26, 2001

2:00 p.m. Meeting with the National Association of Regulatory Utility Commissioners (NARUC) (Public Meeting) (Contact: Spiros Droggitis, 301-415-2367)

This meeting will be webcast live at the Web address— www.nrc.gov/live.html

Tuesday, February 27, 2001

10:25 a.m. Affirmation Session (Public Meeting) (If needed)

10:30 a.m. Briefing on Threat Environment Assessment (Closed-Ex. 1)

Week of March 5, 2001—Tentative

There are no meetings scheduled for the Week of March 5, 2001.

Week of March 12, 2001—Tentative

Monday, March 12, 2001

1:25 p.m. Affirmation Session (Public Meeting) (If needed)

1:30 p.m. Discussion of Management Issues (Closed-Ex. 2)

________

* The schedule for Commission meetings is subject to change on short notice. To verify the status of meetings call (recording)—(301 415-1292. Contact person for more information: David Louis Gamberoni (301) 415-1651.

ADDITIONAL INFORMATION: By a vote of 5-0 on January 29, the Commission determined pursuant to U.S.C.552b(e) and § 9.107(a) of the Commission's rules that “Affirmation of Fansteel, Inc. (Muskogee, Oklahoma Site); Parties' Joint Motion to Dismiss Fansteel, Inc.'s Appeal of the Presiding Officer's Decision to Grant a Hearing” be held on January 31, and on less than one week's notice to the public.

By a vote of 5-0 on January 30, the Commission determined pursuant to U.S.C. 552b(e) and § 9.107(a) of the Commission's rules that “Affirmation of HYDRO RESOURCES, INC. Commission Review of LBP-99-40 (Presiding Officer decision holding proceeding in abeyance); Commission Review of last half of LBP-99-30 (Presiding Officer decision on NEPA/Environmental Justice)” be held on January 31, and on less than one week's notice to the public.

The NRC Commission Meeting Schedule can be found on the Internet at: http://www.nrc.gov/SECY/smi/schedule.htm

This notice is distributed by mail to several hundred subscribers; if you no longer wish to receive it, or would like to be added to the distribution, please contact the Office of the Secretary, Washington, D.C. 20555 (301-415-1969). In addition, distribution of this meeting notice over the Internet system is available. If you are interested in receiving this Commission meeting schedule electronically, please send an electronic message to dkw@nrc.gov.

Dated: February 1, 2001.
David Louis Gamberoni,
Technical Coordinator, Office of the Secretary.

[FR Doc. 01-3073 Filed 2-01-01; 2:13 pm]

BILLING CODE 7590-01-M